EXPORT-IMPORT BANK

[Public Notice: 2019-0001 ]

Application for Final Commitment for a Long-Term Loan or Financial Guarantee in Excess of $100 Million: AP087889XX

AGENCY: Export-Import Bank of the United States.

ACTION: Notice.

SUMMARY: This Notice is to inform the public, in accordance with Section 3(c)(10) of the Charter of the Export-Import Bank of the United States (“Ex-Im Bank”), that Ex-Im Bank has received an application for final commitment for a long-term loan or financial guarantee in excess of $100 million (as calculated in accordance with Section 3(c)(10) of the Charter). Comments received within the comment period specified below will be presented to the Ex-Im Bank Board of Directors prior to final action on this Transaction. Any comments received will be made available to the public.

DATES: Comments must be received on or before September 17, 2019 to be assured of consideration before final consideration of the transaction by the Board of Directors of Ex-Im Bank.

ADDRESSES: Comments may be submitted through Regulations.gov at WWW.REGULATIONS.GOV. To submit a comment, enter EIB-2019-0001 under the heading “Enter Keyword or ID” and select Search. Follow the instructions provided at the Submit a Comment screen. Please include your name, company name (if any) and EIB-2019-0001 on any attached document.

Reference: AP087889XX.

Purpose and Use:Brief description of the purpose of the transaction:To support the export of U.S. goods and services to Mozambique.

Brief non-proprietary description of the anticipated use of the items being exported:To be used in connection with the construction of a natural gas liquefaction plant and associated facilities.

Parties: Principal U.S. Contractors identified to date:

Air Products and Chemicals Inc.

McDermott International Inc.

Obligors: a special purpose company to be organized under the laws of the ADGM, a financial free zone within the Emirate of Abu Dhabi and a special purpose company to be organized under the laws of Mozambique.

Guarantor(s): N/A

Description of Items Being Exported:U.S. liquefaction technology and other U.S. goods and services related to the construction of a natural gas liquefaction plant and associated facilities in Mozambique.

Information on Decision: Information on the final decision for this transaction will be available in the “Summary Minutes of Meetings of Board of Directors” on http://exim.gov/newsandevents/boardmeetings/board/

Confidential Information: Please note that this notice does not include confidential or proprietary business information; information which, if disclosed, would violate the Trade Secrets Act; or information which would jeopardize jobs in the United States by supplying information that competitors could use to compete with companies in the United States.

Joyce Stone,
Program Specialist, Office of the General Counsel.

[FR Doc. 2019-18153 Filed 8-22-19; 8:45 am]

BILLING CODE 6690-01-P